DEPARTMENT OF COMMERCE

Foreign-Trade Zones Board

[B-24-2016]

Foreign-Trade Zone (FTZ) 22—Chicago, Illinois, Authorization of Production Activity, Omron Automotive Electronics, Inc. (Automotive Electronic Components), St. Charles, Illinois

On April 14, 2016, Omron Automotive Electronics, Inc. submitted a notification of proposed production activity to the Foreign-Trade Zones (FTZ) Board for its facility within FTZ 22—Site 41, in St. Charles, Illinois.

The notification was processed in accordance with the regulations of the FTZ Board (15 CFR part 400), including notice in the Federal Register inviting public comment (81 FR 26200, May 2, 2016). The FTZ Board has determined that no further review of the activity is warranted at this time. The production activity described in the notification is authorized, subject to the FTZ Act and the Board's regulations, including Section 400.14.

Dated: August 12, 2016.
Andrew McGilvray,
Executive Secretary.

[FR Doc. 2016-19862 Filed 8-18-16; 8:45 am]

BILLING CODE 3510-DS-P